DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains and associated funerary objects in the control of the Denver Museum of Nature & Science, Denver, CO. The human remains and associated funerary objects were removed from Grand County, UT; possibly eastern Utah or western Colorado; Montezuma County, CO; and the American “Southwest.”

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains and associated funerary objects from the Rocky Mountains West was made by Denver Museum of Nature & Science professional staff in consultation with representatives of the Ak Chin Indian Community of the Maricopa (Ak Chin) Indian Reservation, Arizona; Fort Mojave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Mescalero Apache Tribe of the Mescalero Reservation, New Mexico; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Shoshone Tribe of the Wind River Reservation, Wyoming; Shoshone-Bannock Tribes of the Fort Hall Reservation of Idaho; Shoshone-Paiute Tribes of the Duck Valley Reservation, Nevada; Southern Ute Indian Tribe of the Southern Ute Reservation, Colorado; Tohono O'odham Nation of Arizona; Ute Indian Tribe of the Uintah & Ouray Reservation, Utah; Ute Mountain Tribe of the Ute Mountain Reservation, Colorado, New Mexico & Utah; White Mountain Apache Tribe of the Fort Apache Reservation, Arizona; Yavapai-Apache Nation of the Camp Verde Indian Reservation, Arizona; Yavapai-Prescott Tribe of the Yavapai Reservation, Arizona; Ysleta del Sur Pueblo of Texas; Zuni Tribe of the Zuni Reservation, New Mexico, and the Southern Paiute Consortium, a non-federally recognized Indian group.

In the 1940s, human remains representing a minimum of four individuals were likely removed during excavations in eastern Utah or western Colorado by H. Marie Wormington, archeologist. In 1993, Wormington donated these remains to the museum (DMNS catalogue (and CUI numbers) A1985.1 (CUI 24), A1985.2 (CUI 25), A1985.3 (CUI 26), and A1985.4 (CUI 27)). Remains include one adult female found with unshaped rocks (not collected), one child of indeterminate sex, and two adults of indeterminate sex. Most of these individuals are represented by fragmentary remains. Newspaper wrappings around the remains are dated to March 12, 1949. Wormington's field expeditions during this time focused on the area between Utah and Colorado. No known individuals were identified. No associated funerary objects are present.

In 1938, human remains representing a minimum of five individuals were excavated at the Turner-Look Site near Cisco, Grand County, UT, by Wormington. The human remains were removed during legal excavation on private land. The human remains were accessioned into the museum collection (A533.4A (CUI 28), A533.5C (CUI 29), A533.5B (CUI 30), A533.5C (CUI 31), and A533.6A (CUI 32)). Remains include one child, which was reportedly found with seven associated funerary objects, but only three were collected and in the museum's possession. The additional human remains are composed of one infant and three adult males (one with associated pottery sherds). When excavated these remains were defined within the then incipient culture type “Fremont” although this designation as it was then understood is ambiguous in today's archeological lexicon. No known individuals were identified. The four associated funerary objects are one small circular slate plaque (A533.4B), one stone metate (A533.7A), one lot of shell fragments (A533.36), and one lot of pottery sherds (A533.6B).

In 1968, Francis V. Crane and Mary W.A. Crane donated a hair bundle representing one individual to the museum (AC.7653; CUI 33). Documents indicate the hair was taken from the middle of Montezuma County, CO, in Mitchell Canyon, by Ezra Hambelton. In 1964, the Cranes purchased the hair bundle from the Fred Harvey Company. This bundle of hair is wrapped with a fiber around the middle. The hair is cut straight and is black-brown in color. No known individual was identified. No associated funerary objects are present.

In 1981, the cranium of an adult male was accessioned. The accession records indicate the individual is a “Pueblo Indian, Southwest” (A1150.1; CUI 34). In 1983, two individuals, represented by the right arm bone of an adult of indeterminate sex (AC.2874; CUI 35) and two leg bones of an adult of indeterminate sex (AC.4896A-B; CUI 36), were accessioned. These individuals were originally acquired by the Cranes from Gans, Inc. Southwest Arts and Crafts sometime between 1954 and 1959. Documents indicate these individuals are from the “Southwest.” In 1986, two individuals were accessioned (A1988.1; CUI 38 and A1989.1; CUI 39). Both were collected at an unknown location at an unknown time, but accession records indicate “Pueblo” or “Southwest.” In 1949, a cranium and mandible removed from an unknown location were donated to the museum by Pierpoint Fuller, Jr. (A159.2; CUI 43). Records suggest a possible “Pueblo” Indian from the “Southwest.” No known individuals were identified. No associated funerary objects are present. These six individuals in the museum's collections are only identified as geographically related to the American “Southwest.”

Insufficient geographical, kinship, biological, archeological, linguistic, folkore, oral tradition, historical evidence, other information or expert opinion exists to reasonably establish cultural affiliation of the above individuals with any present-day Indian tribe, although non-destructive physical anthropological evidence, contextual information, documentary evidence, and collector and institutional histories support Native American identity.

Officials of the Denver Museum of Nature & Science have determined that, pursuant to 25 U.S.C. 3001(9), the human remains described above represent the physical remains of 16 individuals of Native American ancestry. Officials of the Denver Museum of Nature & Science also have determined that, pursuant to 25 U.S.C. 3001(3)(A), the four objects described above are reasonably believed to have been placed with or near individual human remains at the time of death or later as part of the death rite or ceremony. Lastly, officials of the Denver Museum of Nature & Science have determined that, pursuant to 25 U.S.C. 3001(2), a relationship of shared group identity cannot be reasonably traced between the Native American human remains and associated funerary objects and any present-day Indian tribe.

The Native American Graves Protection and Repatriation Review Committee (Review Committee) is responsible for recommending specific actions for the disposition of culturally unidentifiable human remains. The Denver Museum of Nature & Science has determined that the human remains are “culturally unidentifiable” under NAGPRA. In 2009, during a major inter-tribal consultation meeting and through additional consultation with individual tribes, an intertribal agreement was established, for disposition of the remains and funerary objects to the Hopi Tribe of Arizona; Pueblo of Acoma, New Mexico; Pueblo of Zia, New Mexico; and the Zuni Tribe of the Zuni Reservation, New Mexico. In the agreement, the Hopi Tribe of Arizona was designated as the lead in reburying 11 individuals. In addition, the Hopi Tribe of Arizona will rebury five of the individuals (CUIs 28-32) with the assistance of the Ute Mountain Tribe of the Ute Mountain Reservation, Colorado, New Mexico & Utah. This agreement was presented to the Review Committee on October 30, 2009. Pursuant to this agreement, the Denver Museum of Nature & Science requested that the Review Committee recommend the disposition of the culturally unidentifiable Native American human remains and associated funerary objects to the Hopi Tribe of Arizona. The Review Committee considered the request and recommended the disposition. The Secretary of the Interior agreed with the Review Committee's recommendation. A March 4, 2010, letter from the Designated Federal Officer, writing on behalf of the Secretary of the Interior, transmitted the authorization for the Denver Museum of Nature & Science to effect disposition of the physical remains of the culturally unidentifiable individuals and the associated funerary objects to the Hopi Tribe of Arizona; Pueblo of Acoma, New Mexico; Pueblo of Zia, New Mexico; and the Zuni Tribe of the Zuni Reservation, New Mexico, contingent upon the publication of a Notice of Inventory Completion in the Federal Register. This notice fulfills that requirement. In the same letter, the Secretary recommended the transfer of the associated funerary objects to the Indian tribe listed above to the extent allowed by Federal, state, or local law.

Representatives of any other Indian tribe that believes itself to be culturally affiliated with the human remains and associated funerary objects should contact Dr. Chip Colwell-Chanthaphonh, Denver Museum of Nature & Science, 2001 Colorado Blvd., Denver, CO 80205, telephone (303) 370-6378, before August 23, 2010. Disposition of the Native American human remains and associated funerary objects to the Hopi Tribe of Arizona; Pueblo of Acoma, New Mexico; Pueblo of Zia, New Mexico; and the Zuni Tribe of the Zuni Reservation, New Mexico, may proceed after that date if no additional claimants come forward.

The Denver Museum of Nature & Science is responsible for notifying the Ak Chin Indian Community of the Maricopa (Ak Chin) Indian Reservation, Arizona; Fort Mojave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Mescalero Apache Tribe of the Mescalero Reservation, New Mexico; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Shoshone Tribe of the Wind River Reservation, Wyoming; Shoshone-Bannock Tribes of the Fort Hall Reservation of Idaho; Shoshone-Paiute Tribes of the Duck Valley Reservation, Nevada; Southern Ute Indian Tribe of the Southern Ute Reservation, Colorado; Tohono O'odham Nation of Arizona; Ute Indian Tribe of the Uintah & Ouray Reservation, Utah; Ute Mountain Tribe of the Ute Mountain Reservation, Colorado, New Mexico & Utah; White Mountain Apache Tribe of the Fort Apache Reservation, Arizona; Yavapai-Apache Nation of the Camp Verde Indian Reservation, Arizona; Yavapai-Prescott Tribe of the Yavapai Reservation, Arizona; Ysleta del Sur Pueblo of Texas; Zuni Tribe of the Zuni Reservation, New Mexico; and the Southern Paiute Consortium, a non-federally recognized Indian group, that this notice has been published.

Dated: July 13, 2010
Sherry Hutt,
Manager, National NAGPRA Program.

[FR Doc. 2010-17874 Filed 7-21-10; 8:45 am]

BILLING CODE 4312-50-S